DEPARTMENT OF TRANSPORTATION

Federal Aviation Administration

Notice of Passenger Facility Charge (PFC) Approvals and Disapprovals

AGENCY: Federal Aviation Administration (FAA), DOT.

ACTION: Monthly notice PFC approvals and disapprovals. In August 2003, there were seven applications approved. This notice also includes information on one application, approved in July 2003, inadvertently left off the July 2003 notice. Additionally, 24 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph (d) of § 158.29.

PFC Applications Approved

Public Agency: City of North Bend and Port of Coos Bay, North Bend, Oregon.

Application Number: 03-06-C-00-OTH.

Application Type: Impose and use a PFC.

PFC Level: $4.50.

Total PFC Revenue Approved in This Decision: $287.000.

Earliest Charge Effective Date: August 1, 2005.

Estimated Charge Expiration Date: February 1, 2009.

Class of Air Carriers Not Required To Collect PFC's: Non-scheduled air taxi/commercial operators utilizing aircraft having a seating capacity of less than 20 passengers.

Determination: Approved. Based on information contained in the public agency's application, the FAA has determined that the proposed class accounts for less than 1 percent of the total annual enplanements at North Bend Municipal Airport.

Brief Description of Projects Approved for Collection and Use at a $4.50 PFC Level: Renovation of runway 13/31 lighting system, signage system, navigational aids, and backup generator; Drainage improvement renovations for runway 13/31 and the parallel taxiway system for runway 13/31; Reconstruction and extension of the existing parallel taxiway system for runway 13/31; Security enhancements; Environmental assessment for relocating taxiway C; Existing terminal renovation.

Decision Date: July 29, 2003.

For Further Information Contact: Suzanne Lee-Pang, Seattle Airports District Office, (425) 227-2654.

Public Agency: Tupelo Airport Authority, Tupelo, Mississippi.

Application Number: 03-03-C-00-TUP.

Application Type: Impose and use a PFC.

PFC Level: $4.50.

Total PFC Revenue Approved in This Decision: $750,000.

Earliest Charge Effective Date: January 1, 2004.

Estimated Charge Expiration Date: January 1, 2013.

Class of Air Carriers not Required To Collect PFC's: None.

Brief Description of Project Approved for Collection and Use at a $4.50 PFC Level: Terminal expansion, renovation, and security enhancement.

Decision Date: August 8, 2003.

For Further Information Contact: David Shumate, Jackson Airports District Office (601) 664-9882.

Public Agency: City of Lebanon, New Hampshire.

Application Number: 03-05-C-00-LEB.

Application Type: Impose and use a PFC.

PFC Level: $4.50.

Total PFC Revenue Approved in This Decision: $63,774.

Earliest Charge Effective Date: November 1, 2003.

Estimated Charge Expiration Date: May 1, 2006.

Class of Air Carriers Not Required To Collect PFC's: Air taxi/commercial operators—non-scheduled/on-demand air carriers.

Determination: Approved. Based on information contained in the public agency's application, the FAA has determined that the proposed class accounts for less than 1 percent of the total annual enplanements at Lebanon Municipal Airport.

Brief Description of Projects Approved for Collection and Use at a $4.50 PFC Level: Purchase snow removal equipment (loader); Hazard beacon winch acquisition; Security system upgrade; Environmental assessment; Purchase snow removal equipment (plow truck); Airport terminal building renovations; PFC administration.

Decision Date: August 19, 2003.

For Further Information Contact: Priscilla Scott, New England Region Airports Division, (781) 238-7614.

Public Agency: City of Rapid City, South Dakota.

Application Number: 03-03-C-00-RAP.

Application Type: Impose and use a PFC.

PFC Level: $3.00.

Total PFC Revenue Approved in This Decision: $1,591,925.

Earliest Charge Effective Date: September 1, 2003.

Estimated Charge Expiration Date: July 1, 2006.

Classes of Air Carriers Not Required To Collect PFCs: Air taxi/commercial operators filing FAA Form 1800-31.

Determination: Approved. Based on information contained in the public agency's application, the FAA has determined that the proposed class accounts for less than 1 percent of the total annual enplanements at Rapid City Regional Airport.

Brief Description of Projects Approved for Collection and Use: General aviation ramp rehabilitation; runway safety area preliminary design; wildlife assessment; cargo/carrier ramp expansion; terminal apron lighting; runway 14/32 runway safety area correction projects; airport layout plan update; terminal building master plan; taxiway A realignment feasibility study; aircraft rescue and firefighting station sprinkler; friction measuring equipment; replace terminal revolving doors; pavement surface condition sensor; terminal roof rehabilitation; security system upgrade; runway 5/23 rehabilitation; taxiway B rehabilitation; passenger loading bridge (jetway); covered passenger walkway to terminal parking; terminal building hearing, ventilation, and air conditioning and sidewalk rehabilitation; covered boarding walkway.

Decision Date: August 18, 2003.

For Further Information Contact: Thomas T. Schauer, Bismarck Airports District Office, (701) 323-7380.

Public Agency: Airport Authority of Washoe County, Reno, Nevada.

Application Number: 03-07-C-00-RNO.

Application Type: Impose and use a PFC.

PFC Level: $4.50.

Total PFC Revenue Approved in This Decision: $16,866,097.

Earliest Charge Effective Date: November 1, 2003.

Estimated Charge Expiration Date: November 1, 2005.

Class of Air Carriers Not Required To Collect PFCs: Nonscheduled/on-demand air carriers filing FAA Form 1800-31.

Determination: Approved. Based on information contained in the public agency's application, the FAA has determined that the proposed class accounts for less than 1 percent of the total annual enplanements at Reno/Tahoe International Airport.

Brief Description of Projects Approved for Collection and Use at a $4.50 PFC Level: Terminal apron reconstruction design—phase 6; terminal apron reconstruction—phase 6; replace four jet bridges.

Brief Description of Projects Approved for Collection and Use at a $3.00 PFC Level: Second floor concourse build out; ground service equipment ramp pavement reconstruction; replace chiller number 2 mechanical system.

Brief Description of Project Approved for Collection at a $3.00 PFC Level: Southern central disposal facility.

Brief Description of Project Partially Approved for Collection at a $3.00 PFC Level: Airfield maintenance replacement facilities.

Determination: Partially approved. The FAA determined that several of the structures were not eligible in accordance with Appendix 1 of FAA Order 5100.38B, Airport Improvement Program (AIP) Handbook, (May 31, 2002).

Brief Description of Project Disapproved for Collection and Use: Geographic information system.

Determination: Disapproved. As a stand-alone project, the geographic information system does not meet the requirements of § 158.15(a) and/or § 158.17(b). Furthermore, this project does not meet the requirements of § 158.15(b)(2), that is, this project is not an AIP eligible planning project in accordance with paragraph 405u of FAA Order 5100.38B, AIP Handbook, (May 31, 2002).

Brief Description of Projects Disapproved for Collection: 3.6 acres wetlands mitigation bank.

Determination: Disapproved. This project does not meet the requirements of § 158.15(b)(1) in that it is not AIP eligible in accordance with paragraph 585c of FAA Order 5100.38B, AIP Handbook, (May 31, 2002).

10 acres wetlands mitigation bank.

Determination: Disapproved. This project does not meet the requirements of § 158.15(b)(1) in that it is not AIP eligible in accordance with paragraph 585c of FAA Order 5100.38B, AIP Handbook, (May 31, 2002).

Decision Date: August 21, 2003.

For Further Information Contact: Marlys Lingsch, San Francisco Airports District Office, (650) 876-2806.

Public Agency: Indianapolis Airport Authority, Indianapolis, Indiana.

Application Number: 03-04-C-00-IND.

Application Type: Impose and use a PFC.

PFC Level: $3.00.

Total PFC Revenue Approved in This Decision: $59,000.

Earliest Charge Effective Date: September 1, 2022.

Estimated Charge Expiration Date: October 1, 2022.

Class of Air Carriers Not Required To Collect PFC's: Non-scheduled, on-demand air carriers.

Determination: Approved. Based on information contained in the public agency's application, the FAA has determined that the proposed class accounts for less than 1 percent of the total annual enplanements at Indianapolis International Airport.

Brief Description of Project Approved for use at a $4.50 PFC Level: Midfield terminal.

Brief Description of Project Approved for Collection and Use at a $3.00 PFC Level: Preparation of PFC application and amendment (2003).

Decision Date: August 25, 2003.

For Further Information Contact: Gary Regan, Chicago Airports District Office, (847) 294-7525.

Public Agency: City of Chicago-Department of Aviation, Chicago, Illinois.

Application Number: 03-10-C-00-MDW.

Application Type: Impose and use a PFC.

PFC Level: $3.00.

Total PFC Revenue Approved in This Decision: $1,550,000.

Earliest Charge Effective Date: January 1, 2040.

Estimated Charge Expiration Date: February 1, 2040.

Class of Air Carriers Not Required To Collect PFC's: Air taxis.

Determination: Approved. Based on information contained in the public agency's application, the FAA has determined that the proposed class accounts for less than 1 percent of the total annual enplanements at Chicago Midway International Airport (MDW).

Brief Description of Projects Approved for Collection at MDW and Use at Gary/Chicago Airport: Expand passenger terminal building; Hangar ramp construction.

Brief Description of Withdrawn Project: Drainage improvements.

Determination: Withdrawn by the public agency on June 3, 2003.

Decision Date: August 26, 2003.

For Further Information Contact: Philip M. Smithmeyer, Chicago Airports District Office, (847) 294-7335.

Public Agency: Pennsylvania State University, University Park, Pennsylvania.

Application Number: 03-03-C-00-UNV.

Application Type: Impose and use a PFC.

PFC Level: $3.00.

Earliest Charge Effective Date: August 1, 2003.

Estimated Charge Expiration Date: November 1, 2003.

PFC Level: $4.50.

Earliest Charge Effective Date: November 1, 2003.

Estimated Charge Expiration Date: November 1, 2008.

Total PFC Revenue Approved in This Decision: $1,510,612.

Class of Air Carriers Not Required To Collect PFC'S: Air taxis operating under Part 135 and filing FAA Form 1800-31.

Determination: Approved. Based on information contained in the public agency's application, the FAA has determined that the proposed class accounts for less than 1 percent of the total annual enplanements at University Park Airport.

Brief Description of Projects Approved for Collection and Use at a $4.50 PFC Level: Replace automated weather observing system III; Acquire aircraft rescue and firefighting vehicle (1500 gallon); Acquire snow removal vehicles; Remove obstructions runway 6/24 runway protection zone; Automated deicing containment facility; Conduct 5 year environmental assessment; Relocate runway end identifier lights system, runway 6; Update hold position markings; Rehabilitate and expand terminal apron; Security enhancements (conduct security study); Conduct terminal area plan; Conduct airport geographic information system, phase II; Modify terminal building; Acquire land for runway approach—Emberton; Acquire aircraft rescue and firefighting safety equipment (fire suits); Design and construct deicing facility; Acquire handicap passenger boarding device; Design and construct snow removal storage building; PFC administration.

Decision Date: August 28, 2003.

For Further Information Contact: Lori Ledebohm, Harrisburg Airports District Office, (717) 730-2835.

Amendments to PFC Approvals
Amendment No. City, State | Amendment approved date | Original approved net PFC revenue | Amended approved net PFC revenue | Original estimated charge exp. date | Amended estimated charge exp. date
96-01-I-04-BTV, Burlington, VT * | 06/20/03 | $23,579,704 | $23,579,704 | 11/01/10 | 03/01/09
98-02-C-02-BTV, Burlington, VT * | 6/20/03 | 40,000 | 40,000 | 12/01/10 | 04/01/09
00-03-C-02-BTV, Burlington, VT * | 6/20/03 | 1,788,581 | 1,788,581 | 02/01/12 | 10/01/09
99-03-C-02-PLB, Plattsburgh, NY | 07/31/03 | 7,264 | 7,090 | 02/01/99 | 12/01/98
98-05-C-03-MCO, Orlando, FL | 08/01/03 | 111,734,000 | 113,965,696 | 01/01/01 | 03/01/01
99-06-C-02-MCO, Orlando, FL | 08/01/03 | 95,772,673 | 86,619,348 | 05/01/03 | 04/01/03
00-07-C-01-MCO, Orlando, FL | 08/01/03 | 174,364,294 | 187,429,617 | 04/01/08 | 08/01/08
02-09-C-01-MCO, Orlando, FL | 08/01/03 | 219,494,000 | 222,974,000 | 02/01/17 | 09/01/17
99-03-C-02-JAN, Jackson, MS * | 08/05/03 | 11,925,562 | 11,925,562 | 02/01/07 | 01/01/06
98-05-I-02-JAC, Jackson, WY | 08/06/03 | 1,903,869 | 1,973,523 | 11/01/04 | 11/01/04
99-06-U-02-JAC, Jackson, WY | 08/06/03 | NA | NA | 11/01/04 | 11/01/04
01-05-C-01-DLH, Duluth, MN | 08/13/03 | 541,256 | 557,885 | 04/01/03 | 05/01/03
92-01-C-04-RSW, Fort Myers, FL * | 08/14/03 | 244,799,120 | 156,035,674 | 12/01/15 | 03/01/11
93-02-U-02-RSW, Fort Myers, FL | 08/14/03 | NA | NA | 12/01/15 | 03/01/11
94-03-U-01-RSW, Fort Myers, FL | 08/14/03 | NA | NA | 12/01/15 | 03/01/11
97-04-U-01-RSW, Fort Myers, FL | 08/14/03 | NA | NA | 12/01/15 | 03/01/11
99-02-C-02-CID, Cedar Rapids, IA | 08/18/03 | 4,210,583 | 4,841,906 | 12/01/03 | 03/01/04
00-02-C-01-SBA, Santa Barbara, CA * | 08/22/03 | 5,512,330 | 5,362,104 | 05/01/07 | 08/01/05
02-03-C-01-SBA, Santa Barbara, CA * | 08/22/03 | 436,043 | 436,043 | 08/01/06 | 08/01/06
00-02-C-01-EKO, Elko, NV * | 08/22/03 | 6,194,920 | 6,194,920 | 09/01/18 | 02/01/21
96-01-C-01-EWN, New Bern, NC * | 08/28/03 | 10,681,398 | 10,681,398 | 05/01/22 | 11/01/24
98-02-U-01-EWN, New Bern, NC | 08/28/03 | NA | NA | 05/01/22 | 11/01/24
92-01-C-03-UNV, University Park, PA | 08/28/03 | 1,724,197 | 1,710,088 | 09/01/99 | 08/01/99
99-02-C-02-UNV, University Park, PA | 08/28/03 | 1,597,102 | 1,227,852 | 10/01/04 | 08/01/03
Note: The amendments denoted by an asterisk (*) include a change to the PFC level charged from $3.00 per enplaned passenger to $4.50 per enplaned passenger. For Burlington, VT, this change is effective on August 1, 2003. For Jackson, MS, this change is effective on October 1, 2003. For Santa Barbara, CA, Fort Myers, FL, Elko, NV, and New Bern, NC, this change is effective on November 1, 2003.

Issued in Washington, DC, on October 31, 2003.
Frank San Martin,
Acting Manager, Financial Analysis and Passenger Facility Charge Branch.

[FR Doc. 03-28140 Filed 11-7-03; 8:45 am]

BILLING CODE 4910-13-M